DEPARTMENT OF STATE

[Public Notice: 12634]

Notice of Public Meeting to Prepare for International Maritime Organization Human Element, Training and Watchkeeping 11 Session

The Department of State will conduct a public meeting at 10:00 a.m. on Tuesday, February 4, 2025, by way of teleconference and in-person at the Douglas A. Munro Coast Guard Headquarters Building at St. Elizabeth's, 2703 Martin Luther King Jr. Avenue SE, Washington, DC 20593. The primary purpose of the meeting is to prepare for the eleventh session of the International Maritime Organization's (IMO) Sub-Committee on Human Element, Training and Watchkeeping (HTW) to be held in London, United Kingdom, from Monday, February 10, 2025, to Friday, February 14, 2025.

The agenda items to be considered include:

—Adoption of the agenda

—Decisions of other IMO bodies

—Validated model training courses

—Role of the human element

—Reports on unlawful practices associated with certificates of competency

—Comprehensive review of the 1978 STCW Convention and Code

—Development of a safety regulatory framework to support the reduction of GHG emissions from ships using new technologies and alternative fuels

—Biennial status report and provisional agenda for HTW 12

—Election of Chair and Vice-Chair for 2026

—Any other business

—Report to the Maritime Safety Committee

Please note: The sub-committee may, on short notice, adjust the HTW 11 agenda to accommodate any constraints associated with the meeting. Although no changes to the agenda are anticipated, if any are necessary, they will be provided to those who RSVP. Members of the public may participate up to the capacity of the teleconference line, which will handle 500 participants, or up to the seating capacity of the room if attending in-person.

Those who plan to attend should contact the meeting coordinator, Mrs. Megan Johns Henry at megan.c.johns@uscg.mil, by phone at (202) 372-1255, or in writing at 2703 Martin Luther King Jr. Ave. SE, Stop 7509, Washington, DC 20593-7509 not later than January 30, 2025. Requests made after January 30, 2025, may not be able to be accommodated. The meeting coordinator will provide the teleconference information, facilitate the building security process, and address requests for reasonable accommodation. Please note that due to security considerations, two valid, government issued photo identifications must be presented to gain entrance to the Douglas A. Munro Coast Guard Headquarters Building at St. Elizabeth's. This building is accessible by taxi, public transportation, and privately owned conveyance (upon advanced request). Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2025-00594 Filed 1-13-25; 8:45 am]

BILLING CODE 4710-09-P